FEDERAL COMMUNICATIONS COMMISSION

47 CFR Part 73

[DA 04-73; MB Docket No. 02-164, RM-10476]

Radio Broadcasting Services; Cimarron, NM

AGENCY: Federal Communications Commission.

ACTION: Proposed rule; dismissal.

SUMMARY: Sierra Grande Broadcasting filed a petition for rule making proposing the allotment of Channel 236C2 at Cimarron, New Mexico, as the community's first local aural transmission service. See 67 FR 47502, July 19, 2002. Petitioner subsequently filed an amendment requesting the allotment of Channel 296C1 in lieu of Channel 236C2 at Cimarron, New Mexico. The new proposal to allot Channel 296C1 at Cimarron conflicts with a pending petition to allot Channel 296A at Las Vegas, New Mexico, and will be considered in the context of that proceeding. A showing of continuing interest is required before a channel will be allotted. It is the Commission's policy to refrain from making an allotment to a community absent an expression of interest. Therefore, we will dismiss petitioner's petition in the instant proceeding.

FOR FURTHER INFORMATION CONTACT: Sharon P. McDonald, Media Bureau, (202) 418-2180.

SUPPLEMENTARY INFORMATION: This is a synopsis of the Commission's Report and Order, MB Docket No. 02-164, adopted January 14, 2004, and released January 20, 2004 . The full text of this Commission decision is available for inspection and copying during normal business hours in the FCC Reference Information Center (Room CY-A257), 445 12th Street, SW., Washington, DC. The complete text of this decision may also be purchased from the Commission's copy contractors, Qualex International, Portals II, 445 12th Street, SW., Room CY-B402, Washington, DC 20554.

Federal Communications Commission.
John A. Karousos,
Assistant Chief, Audio Division, Media Bureau.

[FR Doc. 04-2834 Filed 2-9-04; 8:45 am]

BILLING CODE 6712-01-P